DEPARTMENT OF COMMERCE

International Trade Administration

North American Free Trade Agreement (NAFTA), Article 1904 Binational Panel Reviews: Notice of Completion of Panel Review

AGENCY: United States Section, NAFTA Secretariat, International Trade Administration, Department of Commerce.

ACTION: Notice of completion of panel review in the matter of Certain Fabricated Structural Steel from Canada Final Affirmative Antidumping Duty Determination (Secretariat File Number: USA-CDA-2020-1904-02).

SUMMARY: The USA-CDA-2020-1904-02 Panel has granted a consent motion filed on behalf of the Full Member Subgroup of the American Institute of Steel Construction, LLC, requesting the termination of panel review in the Certain Fabricated Structural Steel from Canada Final Affirmative Antidumping Duty Determination (Fabricated Structural Steel from Canada AD) dispute. Given the Panel's ruling on this consent motion, and pursuant to Rule 71(2) of the NAFTA Rules of Procedure for Article 1904 Binational Panel Reviews (Rules), the Fabricated Structural Steel from Canada AD dispute has been terminated. As a result, and in accordance with Rule 78(a), notice is hereby given that panel review of the Fabricated Structural Steel from Canada AD dispute has been completed effective September 28, 2023.

FOR FURTHER INFORMATION CONTACT: Vidya Desai, United States Secretary, NAFTA Secretariat, Room 2061, 1401 Constitution Avenue NW, Washington, DC 20230, (202) 482-5438.

SUPPLEMENTARY INFORMATION: Chapter 19 of Article 1904 of NAFTA provides a dispute settlement mechanism involving trade remedy determinations issued by the government of the United States, the government of Canada, and the government of Mexico. There are established Rules, which were adopted by the three governments and require Notices of Completion of Panel Review to be published in accordance with Rule 78. For the complete Rules, please see https://www.nafta-sec-alena.org/Home/Texts-of-the-Agreement/Rules-of-Procedure/Article-1904.

Dated: October 6, 2023.
Vidya Desai,
U.S. Secretary, NAFTA Secretariat.

[FR Doc. 2023-22544 Filed 10-12-23; 8:45 am]

BILLING CODE 3510-GT-P